DEPARTMENT OF HEALTH AND HUMAN SERVICES

Health Resources and Services Administration

Agency Information Collection Activities: Submission to OMB for Review and Approval; Public Comment Request; Ryan White HIV/AIDS Program Core Medical Services Waiver Form

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than July 25, 2024. The form will become effective on October 1, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Ryan White HIV/AIDS Program Core Medical Services Waiver Form, OMB No. 0906-0065—Revision

Abstract: In accordance with sections 2604(c), 2612(b), and 2651(c) of the Public Health Service Act, recipients are required to spend not less than 75 percent of funds on core medical services for individuals identified with HIV and who are eligible under the statute, after reserving permissible amounts for administrative and clinical quality management (CQM) costs. The statute also grants the Secretary authority to waive this requirement for a Ryan White HIV/AIDS Program (RWHAP) Part A, B, or C recipient if certain requirements are met, and a waiver request is submitted to HRSA for approval.

As currently implemented by HRSA, in order to be approved, (1) core medical services must be available and accessible to all individuals identified and eligible for the RWHAP in the recipient's service area within 30 days. This access must be without regard to payer source, and without the need to spend at least 75 percent of funds remaining from the recipient's RWHAP award after statutorily permissible amounts for administrative and CQM costs are reserved; (2) the recipient must ensure there are no AIDS Drug Assistance Program (ADAP) waiting lists in its service area; and (3) a public process to obtain input on the waiver request must have occurred. This process must seek input from impacted communities, including clients and RWHAP-funded core medical services providers, on the availability of core medical services, and the decision to request the waiver. The public process may be a part of the same one used by recipients to seek input on community needs as part of the annual priority setting and resource allocation, comprehensive planning, statewide coordinated statement of need, public planning, and/or needs assessment processes. RWHAP Parts A, B, and C core medical services waiver requests must include funds awarded under the Minority AIDS Initiative. Core medical services waivers are effective for a 1-year period.

The process for RWHAP Parts A, B, and C grant recipients to request a waiver of the minimum expenditure amount requirements for core medical services is outlined in Policy Notice 21-01, Waiver of the Ryan White HIV/AIDS Program Core Medical Services Expenditure Requirement. Policy Notice 21-01 is currently being revised and will be effective October 1, 2024.

HRSA proposes to modify the one-page form to include the proposed percentages of HIV service dollars allocated to core medical and support services. Under the proposed changes, a field will be added to the form to capture the proposed percentages. This information will inform HRSA whether recipients are able to meet the statutory requirements in sections 2604(c), 2612(b), and 2651(c) of the Public Health Service Act and will clarify what proposed portion of funds will be allocated to core medical and support services. Minor changes will also be made to the form to increase readability.

Summary of Proposed Changes: Sections 2604(c), 2612(b), and 2651(c) of the Public Health Service Act require recipients to spend not less than 75 percent of funds on core medical services after reserving statutorily permissible amounts for administrative and CQM costs. However, on the current version of the form, the portion of HIV service dollars to be allocated to core medical and support services was sometimes unclear. The suggested change to the form adds a requirement to include the proposed percentages of HIV service dollars allocated to core medical and support services. The table on the current form is expanded to allow for the insertion of the proposed percentages for core medical and support services. Instructions at the top of the new form are updated to indicate where to insert the proposed percentages. Language within the table is also updated to increase readability.

The proposed changes do not modify the underlying requirements necessary to obtain a waiver: all core medical services are available and accessible within 30 days in the jurisdiction or service area; ensuring that the state ADAP has no waiting lists; and that the recipient has used a public process to determine the need for a waiver. Recipients may still need to provide supportive evidence to HRSA upon request.

A 60-day notice published in the Federal Register on February 27, 2024, vol. 89, No. 39; pp. 14507-14508. There were no public comments.

Need and Proposed Use of the Information: HRSA uses the documentation submitted in core medical services waiver requests to determine if the RWHAP Parts A, B, and C grant applicant or recipient meets the statutory requirements for waiver eligibility including: (1) no waiting lists for ADAP services; and (2) evidence of core medical services availability within the grant recipient's jurisdiction, state, or service area to all persons identified with HIV and eligible under Title XXVI of the Public Health Service Act.

Likely Respondents: HRSA expects responses from RWHAP Parts A, B, and C grant applicants and recipients. The number of grant recipients requesting waivers fluctuates annually and has ranged up to 23 per year since its implementation in fiscal year 2007. In light of recent trends, HRSA anticipates receiving possibly up to 23 applications in a given year.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
RWHAP Core medical Services Waiver request Attestation Form | 23 | 1 | 23 | 0.49 | 11.27
Total | 23 |  | 23 |  | 11.27

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2024-13857 Filed 6-24-24; 8:45 am]

BILLING CODE 4165-15-P